DEPARTMENT OF HEALTH AND HUMAN SERVICES

Centers for Disease Control and Prevention

Office for State, Tribal, Local and Territorial Support (OSTLTS)

Correction

A notice was published in the Federal Register on June 21, 2013, Volume 78, Number 120, Pages 37541-37542 to announce the Tribal Advisory Committee Meeting and 10th Biannual Tribal Consultation Session planned for August 12-13, 2013, in Atlanta, Georgia. This notice is being published to announce that the Tribal Advisory Committee Meeting and 10th Biannual Tribal Consultation Session have been postponed. The meetings are anticipated to be rescheduled for fall 2013. The dates will be announced as soon as they are determined. Please refer to the Tribal Support Web site for updates: http://www.cdc.gov/tribal/.

Contact Person for More Information: April R. Taylor, Public Health Analyst, CDC/OSTLTS, via mail to 4770 Buford Highway NE., MS E-70, Atlanta, Georgia 30341 or email to ARTaylor@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2013-18788 Filed 8-2-13; 8:45 am]

BILLING CODE 4163-18-P